DEPARTMENT OF HEALTH AND HUMAN SERVICES

Centers for Disease Control and Prevention

[30DAY-14-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

1. National Coal Workers' Autopsy Study Consent Release and History Form—(0920-0021)—Extension—National Institute for Occupational Safety and Health (NIOSH)—Under the Federal Coal Mine Health & Safety Act of 1977, PL91-173 (amended the Federal Coal Mine & Safety Act of 1969), the Public Health Service has developed a nationwide autopsy program (NCWAS) for underground coal miners. The Consent Release and History Form is primarily used to obtain written authorization from the next-of-kin to perform an autopsy on the deceased miner. The study is a service program to aid surviving relatives in establishing eligibility for black lung compensation. Because a basic reason for the post-mortem exam is research (both epidemiological and clinical), included are a minimum of essential information regarding the deceased miner, his occupational history, and his smoking history. The data collected will be used by the staff at NIOSH for research purposes in defining the diagnostic criteria for coal workers' pneumoconiosis (black lung) and will be correlated with pathologic changes and x-ray findings.

It is estimated that only 5 minutes is required for the pathologist to put a statement on the invoice affirming that no other compensation is received for the autopsy. From past experience, it is estimated that 15 minutes is required for the next-of-kin to complete form CDC/NIOSH 2.6. In as much as an autopsy report is routinely completed by a pathologist, the only additional burden is the specific request of abstract of terminal illness and final diagnosis relating to pneumoconiosis. Therefore, only 5 minutes of additional burden is estimated for the autopsy report. The total annual burden hours are 62.5.

Respondents | Number of respondents | Number of responses/respondent | Avg. burden of response (in hrs.)
Pathologist:
Invoice | 150 | 1 | 5/60
Report | 150 | 1 | 5/60
Next-of-Kin | 150 | 1 | 15/60

Dated: February 2, 2000.
Nancy Cheal,
Acting Associate Director for Policy, Planning and Evaluation, Centers for Disease Control and Prevention (CDC).

[FR Doc. 00-3060 Filed 2-9-00; 8:45 am]

BILLING CODE 4163-18-P